DEPARTMENT OF COMMERCE

Foreign-Trade Zones Board

[B-46-2017]

Foreign-Trade Zone (FTZ) 106—Oklahoma City, Oklahoma; Authorization of Production Activity, Eastman Kodak Company (Printing Flexographic Plates), Weatherford, Oklahoma

On June 21, 2017, Eastman Kodak Company submitted a notification of proposed production activity to the FTZ Board for its facility within Subzone 106F, in Weatherford, Oklahoma.

The notification was processed in accordance with the regulations of the FTZ Board (15 CFR part 400), including notice in the Federal Register inviting public comment (82 FR 31554, July 7, 2017). On October 19, 2017, the applicant was notified of the FTZ Board's decision that no further review of the activity is warranted at this time. The production activity described in the notification was authorized, subject to the FTZ Act and the FTZ Board's regulations, including Section 400.14.

Dated: December 6, 2017.
Andrew McGilvray,
Executive Secretary.

[FR Doc. 2017-26849 Filed 12-12-17; 8:45 am]

BILLING CODE 3510-DS-P